DEPARTMENT OF AGRICULTURE

Forest Service

RIN 0596-AB90

Forest Transportation System Analysis; Revisions to Road Management Policy

AGENCY: Forest Service, USDA.

ACTION: Notice; correction.

SUMMARY: The Forest Service published on December 16, 2003 (68 FR 69986), a notice of issuance of a final directive to Forest Service Manual (FSM) Title 7700—Engineering, Chapter 7710—Transportation Atlas, Records, and Analysis, as Amendment 7700-2003-2. The notice contained an incorrect World Wide Web/Internet address.

FOR FURTHER INFORMATION CONTACT: Deborah Beighley or Nelson Hernandez, Engineering Staff, Forest Service, at (703) 605-4617 and (703) 605-4613, respectively.

CORRECTION: In the Federal Register issue of December 16, 2003, in FR Doc. 03-30871, page 69986, in the first column, correct the ADDRESSES caption to read:

ADDRESSES: The final directive, which includes a digest of the summary of changes and the revised directive text in its entirety, is available electronically via the World Wide Web/Internet at http://www.fs.fed.us/im/directives/fsm/7700. Single paper copies of the directive also are available by contacting the USDA Forest Service, Engineering Staff (Mail Stop 1101), 1400 Independence Avenue SW., Washington, DC 20250-1101.

Dated: December 18, 2003.
Jack L. Craven,
Acting Deputy Chief, National Forest System.

[FR Doc. 03-31654 Filed 12-22-03; 8:45 am]

BILLING CODE 3410-11-P